DEPARTMENT OF EDUCATION

[Docket No.: ED-2014-ICCD-0168]

Agency Information Collection Activities; Submission to the Office of Management and Budget for Review and Approval; Comment Request; an Examination of Trends in Algebra II Enrollment and Completion in Texas Public High Schools

AGENCY: Institute of Education Sciences/National Center for Education Statistics (IES), Department of Education (ED).

ACTION: Notice.

SUMMARY: In accordance with the Paperwork Reduction Act of 1995 (44 U.S.C. chapter 3501 et seq.), ED is proposing a new information collection.

DATES: Interested persons are invited to submit comments on or before April 10, 2015.

ADDRESSES: Comments submitted in response to this notice should be submitted electronically through the Federal eRulemaking Portal at http://www.regulations.gov by selecting Docket ID number ED-2014-ICCD-0168 or via postal mail, commercial delivery, or hand delivery. If the regulations.gov site is not available to the public for any reason, ED will temporarily accept comments at ICDocketMgr@ed.gov. Please note that comments submitted by fax or email and those submitted after the comment period will not be accepted; ED will ONLY accept comments during the comment period in this mailbox when the regulations.gov site is not available. Written requests for information or comments submitted by postal mail or delivery should be addressed to the Director of the Information Collection Clearance Division, U.S. Department of Education, 400 Maryland Avenue SW., LBJ, Mailstop L-OM-2-2E319, Room 2E105, Washington, DC 20202.

FOR FURTHER INFORMATION CONTACT: For specific questions related to collection activities, please contact Chris Boccanfuso, 202-219-1674.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: An Examination of Trends in Algebra II Enrollment and Completion in Texas Public High Schools.

OMB Control Number: 1850-NEW.

Type of Review: A new information collection.

Respondents/Affected Public: State, Local and Tribal Government.

Total Estimated Number of Annual Responses: 343.

Total Estimated Number of Annual Burden Hours: 102.

Abstract: District administration staff from all Texas public school districts (one staff member per district) will be asked to complete a short, online survey regarding changes districts may have made in response to the new high school graduation requirements implemented under Texas House Bill 5. Participation in the survey of district administration staff is voluntary. Data collected by the survey will be used to describe changes that districts have made with regard to student diploma plan placement, mathematics course offerings, and information distribution to parents in response to Texas House Bill 5. This study will also provide the Texas Education Agency and the Texas Higher Education Coordination Board with information on the level of Texas students' college preparation in mathematics. The findings will be reported in a printed report available to the public.

Dated: March 6, 2015.
Stephanie Valentine,
Acting Director, Information Collection Clearance Division, Privacy, Information and Records Management Services, Office of Management.

[FR Doc. 2015-05517 Filed 3-10-15; 8:45 am]

BILLING CODE 4000-01-P